DEPARTMENT OF COMMERCE

International Trade Administration

[A-552-802]

Certain Frozen Warmwater Shrimp From the Socialist Republic of Vietnam: Final Results of Antidumping Duty Administrative Review, 2011-2012

AGENCY: Import Administration, International Trade Administration, Department of Commerce.

SUMMARY: On March 12, 2013, the Department of Commerce (“Department”) published in the Federal Register the Preliminary Results of the seventh administrative review of the antidumping duty Order ¹ on certain warmwater shrimp from the Socialist Republic of Vietnam (“Vietnam”).² Based upon our analysis of the comments and information received, we have determined that Minh Phu Group,³ and Nha Trang Seafoods,⁴ the two mandatory respondents, and Quoc Viet,⁵ the voluntary respondent, have not sold subject merchandise at less than normal value during the period of review (“POR”), February 1, 2011, through January 31, 2012. Additionally, the Department has determined not to revoke the Order in part, with respect to Minh Phu Group and Nha Trang Seafoods.

¹ See Notice of Amended Final Determination of Sales at Less Than Fair Value and Antidumping Duty Order: Certain Frozen Warmwater Shrimp From the Socialist Republic of Vietnam, 70 FR 5152 (February 1, 2005) (“Order”).

² See Certain Warmwater Shrimp from the Socialist Republic of Vietnam: Preliminary Results of Antidumping Duty Administrative Review. 2011-2012, 78 FR 15699 (March 12, 2013) (“Preliminary Results”), and accompanying Preliminary Decision Memorandum.

³ Minh Phu Seafood Export Import Corporation (and affiliated Minh Qui Seafood Co., Ltd. and Minh Phat Seafood Co., Ltd.); Minh Phu Seafood Corporation, Minh Phu Seafood Corp., Minh Qui Seafood Co., Ltd., Minh Qui Seafood, Minh Phat Seafood Co., Ltd., Minh Phat Seafood, and Minh Phu Hau Giang Seafood Co., Ltd. (collectively, the “Minh Phu Group”).

⁴ Nha Trang Seaproduct Company and its affiliates, NT Seafoods Corporation, Nhatrang Seafoods-F.89 Joint Stock Company, and NTSF Seafoods Joint Stock Company (collectively, the “Nha Trang Seafoods”).

⁵ Quoc Viet Seaproducts Processing Trading and Import-Export Co., Ltd. (“Quoc Viet”).

DATES: Effective Date: September 12, 2013.

FOR FURTHER INFORMATION CONTACT: Bob Palmer or Irene Gorelik, AD/CVD Operations, Office 9, Import Administration, International Trade Administration, Department of Commerce, 14th Street and Constitution Avenue NW., Washington, DC 20230; telephone: (202) 482-9068 or (202) 482-6905, respectively.

SUPPLEMENTARY INFORMATION: On March 12, 2013, the Department published the Preliminary Results. On May 22, 2013, the Department extended the time limit for these final results by 60 days. On April 15, 2013, Petitioner,⁶ Minh Phu Group, and Nha Trang Seafoods, submitted additional surrogate value (“SV”) information. On April 25, 2013, Petitioner, Minh Phu Group and Nha Trang Seafoods submitted rebuttal SV comments.

⁶ The Ad Hoc Shrimp Trade Action Committee (“Petitioner”).

We gave interested parties an opportunity to comment on the Preliminary Results. On May 31, 2013, Petitioner, Domestic Processors,⁷ Quoc Viet, Minh Phu Group and Nha Trang Seafoods submitted case briefs. On June 5, 2013, Petitioner, Domestic Processors, Quoc Viet, Minh Phu Group and Nha Trang Seafoods submitted rebuttal briefs.

⁷ American Shrimp Processors Association (“Domestic Processors”).

Scope of the Order

The merchandise subject to the order is certain frozen warmwater shrimp. The product is currently classified under the following Harmonized Tariff Schedule of the United States item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. The written description of the scope of the order is dispositive. A full description of the scope of the order is available in the accompanying Issues and Decision Memorandum.⁸

⁸ See Memorandum to Paul Piquado, Assistant Secretary for Import Administration, From Christian Marsh, Deputy Assistant Secretary for Antidumping and Countervailing Duty Operations, Certain Frozen Warmwater Shrimp from the Socialist Republic of Vietnam: Issues and Decision Memorandum for the Final Results, (“Issues and Decision Memorandum”) dated concurrently and hereby adopted by this notice.

Analysis of Comments Received

All issues raised in the case and rebuttal briefs by parties to this review are addressed in the accompanying Issues and Decision Memorandum.⁹ A list of the issues which parties raised, and to which we respond in the Issues and Decision Memorandum is attached to this notice as an Appendix. The Issues and Decision Memorandum is a public document and is on file electronically via Import Administration's Antidumping and Countervailing Duty Centralized Electronic Service System (IA ACCESS). IA ACCESS is available to registered users at http://iaaccess.trade.gov and in the Central Records Unit, Room 7046 of the main Department of Commerce building. In addition, a complete version of the Issues and Decision Memorandum can be accessed directly on the internet at http://www.trade.gov/ia/. The signed Issues and Decision Memorandum and electronic versions of the Issues and Decision Memorandum are identical in content.

⁹ See id.

Final Determination of No Shipments

In the Preliminary Results, the Department preliminarily determined the following companies did not have any reviewable transactions during the POR: Amanda Food (Vietnam) Ltd., Anvifish Joint Stock Company, Bien Dong Seafood Co., Ltd., Binh An Seafood Joint Stock Company, Camranh Seafoods, Thong Thuan Seafood Company, Vietnam Clean Seafood Corporation, and Vinh Hoan Corporation. We have not received any information to contradict this determination. Therefore, the Department has made the final determination that the above-named companies did not have any reviewable entries of subject merchandise during the POR, and will issue appropriate instructions that are consistent with our “automatic assessment” clarification, for these final results.

Verification

Pursuant to 19 CFR 351.307(b)(iv), the Department conducted a verification of Minh Phu Group's sales and factors of production between April 16, 2013 and April 26, 2013.¹⁰ Based on Minh Phu Group's minor corrections presented to the Department and other findings, the Department requested Minh Phu Group submit revised data.11 12

¹⁰ See “Memorandum to the File, though Catherine Bertrand, Program Manager, Office 9, from Irene Gorelik, Analyst, Office 9; re: Verification of the CEP Sales Response of the MPG in the 2011-2012 Administrative Review of Certain Warmwater Shrimp from the Socialist Republic of Vietnam,” dated May 3, 2013; see also “Memorandum to the File, though Catherine Bertrand, Program Manager, Office 9, from Irene Gorelik, Analyst, Office 9; re: Certain Frozen Warmwater Shrimp from the Socialist Republic of Vietnam: Verification of Sales and Factors of Production for Minh Phu Seafood Corporation,” dated May 16, 2013 (“Minh Phu Group Verification Report”)

¹¹ See Minh Phu Group's revised sales and factors of production data, dated May 23, 2013.

¹² The details of the changes to Minh Phu Group's margin calculation program are provided in “Memorandum to the File through Catherine Bertrand, Program Manager, Office 9 from Irene Gorelik, Analyst, Office 9, re; Administrative Review of Certain Frozen Warmwater Shrimp from the Socialist Republic of Vietnam: Analysis for the Final Results of Minh Phu Group,” dated concurrently with this notice.

Changes Since the Preliminary Results

The Department has made changes to certain surrogate values and company-specific margin calculations since the Preliminary Results. Specifically, we changed the surrogate value for domestic cold storage warehousing and the surrogate values for certain export-related expenses incurred by Minh Phu Group and Nha Trang. The Department also made company-specific changes to the margin calculation programs resulting from verification in Minh Phu Group's case, and other programming changes for Minh Phu Group, Nha Trang, and Quoc Viet based on arguments made in case and rebuttal briefs. For detailed information, see the Issues and Decision Memorandum and the company-specific final results analysis memoranda.

Request for Revocation, In Part

In the Preliminary Results, we determined that Minh Phu Group and Nha Trang Seafoods have not met the regulatory criteria for revocation set forth in 19 CFR 351.222(b).¹³ We have not received any further information following the issuance of the Preliminary Results that would warrant revocation of the order with regard to either Minh Phu Group or Nha Trang Seafoods.¹⁴ Therefore, we will not revoke the Order with respect to Minh Phu Group and Nha Trang Seafoods because they have not met the regulatory criteria for revocation set forth in 19 CFR 351.222(b).¹⁵

¹³ See Preliminary Results, 78 FR at 15699-15700, and accompanying Preliminary Decision Memorandum at 5; see also “Memorandum to Christian Marsh, Deputy Assistant Secretary, Import Administration, through Edward Yang, Senior Director, from James Doyle, Office Director, Office 9, re; Seventh Antidumping Duty Administrative Review of Frozen Warmwater Shrimp from the Socialist Republic of Vietnam: Addendum to the Preliminary Results Regarding the Minh Phu Group Revocation Request,” dated April 4, 2013.

¹⁴ See Issues and Decision Memorandum at Comment 12.

¹⁵ The Department recently modified the section of its regulations concerning the revocation of antidumping and countervailing duty orders in whole or in part, but that modification does not apply to this administrative review. See Modification to Regulation Concerning the Revocation of Antidumping and Countervailing Duty Orders, 77 FR 29875 (May 21, 2012). Reference to 19 CFR 351.222(b) thus refers to the Department's regulations prior to the modification.

Separate Rates

In the Preliminary Results, we determined that 30 companies ¹⁶ (“Separate Rate Respondents”) in addition to Minh Phu Group and Nha Trang Seafoods, and the voluntary respondent, Quoc Viet, met the criteria for separate rate status. We have not received any information since the issuance of the Preliminary Results that provides a basis for reconsidering this preliminary determination. Therefore, the Department continues to find that these 33 companies meet the criteria for a separate rate for the final results.

¹⁶ See Issues and Decision Memorandum at Appendix.

Rate for Non-Selected Companies

For the final results, we continue to calculate zero rates for both mandatory respondents. Therefore, there is no change to the separate rate assigned to the Separate Rate Respondents for the final results of this review, and we continue to determine that a “reasonable method for determining the weighted-average dumping margins for the non-selected respondents in this review is to average the weighted-average dumping margins calculated for the mandatory respondents,” as noted in the Preliminary Results.¹⁷ For a detailed discussion of the Department's separate rate calculation, see the Issues and Decision Memorandum at Comment 9.

¹⁷ See Preliminary Results, and accompanying Preliminary Decision Memorandum at 10-11.

Vietnam-Wide Entity

In the Preliminary Results, we determined that 41 companies failed to demonstrate their eligibility for a separate rate. In NME proceedings, “`rates' may consist of a single dumping margin applicable to all exporters and producers.” ¹⁸ Therefore, we assigned the Vietnam-wide entity a rate of 25.76 percent, the only rate ever determined for the Vietnam-wide entity in this proceeding. We have not received any information since the Preliminary Results that provides a basis for reconsidering this determination. We, therefore, continue to apply the Vietnam-wide entity rate of 25.76 percent to these 41 companies.¹⁹

¹⁸ See 19 CFR 351.107(d).

¹⁹ See Issues and Decision Memorandum at Appendix II for a list of the companies included in the Vietnam-Wide Entity.

²⁰ In AR6 VN Shrimp, the Department found the companies comprising Minh Phu Group are a single entity and, because the facts resulting in that determination have not changed, we continue to find these companies to be part of a single entity. Therefore, we will assign this rate to the companies in the single entity. See Certain Frozen Warmwater Shrimp From the Socialist Republic of Vietnam: Preliminary Results of Administrative Review, 77 FR 13547, 13549 (March 7, 2012), unchanged in Certain Frozen Warmwater Shrimp From the Socialist Republic of Vietnam: Final Results and Final Partial Rescission of Antidumping Duty Administrative Review, 77 FR 55800 (September 11, 2012) (“AR6 VN Shrimp”).

²¹ In AR5 VN Shrimp, the Department found the companies comprising Nha Trang Seafoods are a single entity and, because there have been no changes to this determination since the fifth administrative review; we continue to find these companies to be part of a single entity. Therefore, we will assign this rate to the companies in the single entity. See Certain Frozen Warmwater Shrimp From the Socialist Republic of Vietnam: Preliminary Results, Partial Rescission, and Request for Revocation, In Part, of the Fifth Administrative Review, 76 FR 12054, 12056 (March 4, 2012), unchanged in Certain Frozen Warmwater Shrimp From the Socialist Republic of Vietnam: Final Results and Final Partial Rescission of Antidumping Duty Administrative Review, 76 FR 56158 (September 12, 2011) (“AR5 VN Shrimp”).

²² The Department selected Quoc Viet Seaproducts Processing Trading and Import-Export Co., Ltd. as a voluntary respondent in this review. See Preliminary Results, and accompanying Preliminary Decision Memorandum at 3.

Final Results of Review

The Department determines that the following final dumping margins exist:

Exporter | Margin (percent)
Minh Phu Group: ²⁰
Minh Phu Seafood Corp., aka
Minh Phu Seafood Corporation, aka
Minh Phu Seafood Pte, aka
Minh Phu Hau Giang Seafood Co., Ltd., aka
Minh Phat Seafood Co., Ltd., aka
Minh Qui Seafood Co., Ltd., aka
Minh Qui Seafood | 0.00
Nha Trang Seafoods: ²¹
Nha Trang Seaproducts Company, aka
Nha Trang Seafoods, aka
NT Seafoods Corporation, aka
NT Seafoods, aka
Nha Trang Seafoods—F.89 Joint Stock Company, aka
Nha Trang Seafoods—F.89, aka
NTSF Seafoods Joint Stock Company, aka
NTSF Seafoods | 0.00
Quoc Viet Seaproducts Processing Trading and Import-Export Co., Ltd.²² | 0.00
Bac Lieu Fisheries Joint Stock Company, aka
Bac Lieu Fisheries Company Limited, aka
Bac Lieu Fisheries Co., Ltd., aka
Bac Lieu Fisheries Limited Company, aka
Bac Lieu Fis | 0.00
BIM Seafood Joint Stock Company | 0.00
Camau Frozen Seafood Processing Import Export Corporation, aka
Camimex, aka
Camau Seafood Factory No. 4, aka
Camau Seafood Factory No. 5, aka
Camau Frozen Seafood Processing Import Export Corp. (CAMIMEX-FAC 25), aka
Frozen Factory No. 4 | 0.00
C.P. Vietnam Corporation, aka
C.P. Vietnam Livestock Corporation, aka
C.P. Vietnam Livestock Company Limited, aka
C.P. Vietnam Livestock Co., Ltd., aka
C.P. Vietnam | 0.00
Cadovimex Seafood Import-Export and Processing Joint Stock Company, aka
Cai Doi Vam Seafood Import-Export Company, aka
Caidoivam Seafood Company, aka
Cadovimex-Vietnam, aka
Cadovimex | 0.00
Cafatex Fishery Joint Stock Corporation, aka
Cafatex Corporation, aka
Cafatex Corp., aka
Cafatex, aka
Cantho Animal Fisheries Product Processing Export Enterprise (Cafatex), aka
Cafatex, aka
Taydo Seafood Enterprise, aka
Xi Nghiep Che Bien Thuy Suc San Xuat Kau Cantho | 0.00
Can Tho Import Export Fishery Limited Company, aka
CAFISH | 0.00
Coastal Fisheries Development Corporation, aka
COFIDEC, aka
Coastal Fisheries Development Corp., aka
Coastal Fisheries Development Co. aka
Coastal Fisheries Development | 0.00
Cuu Long Seaproducts Company, aka
Cuu Long Seaproducts Limited, aka
Cuulong Seapro aka
Cuu Long Seapro | 0.00
Danang Seaproducts Import Export Corporation, aka
Danang Sea Products Import Export Corporation, aka
Danang Seaproduct Import-Export Corporation, aka
Danang Seaproducts Import Export, aka
Tho Quang Seafood Processing & Export Company, aka
Tho Quang Seafood Processing and Export Company, aka
Tho Quang, aka
Tho Quang Co., aka
Seaprodex Danang | 0.00
Viet I-Mei Frozen Foods Co., Ltd., aka
Grobest & I-Mei Industrial (Vietnam) Co., Ltd., aka
Grobest & I-Mei Industry (Vietnam) Co., Ltd., aka
Grobest | 0.00
Gallant Ocean (Vietnam) Co., Ltd., aka
Gallant Ocean (Quang Ngai) Co., Ltd. | 0.00
Investment Commerce Fisheries Corporation, aka
Investment Commerce Fisheries Corp., aka
Investment Commerce Fisheries, aka
Incomfish, aka
Incomfish Corp., aka
Incomfish Corporation | 0.00
Kim Anh Company Limited, aka
Kim Anh Co, Ltd. | 0.00
Minh Hai Export Frozen Seafood Processing Joint-Stock Company, aka
Minh Hai Jostoco, aka
Minh Hai Export Frozen Seafood Processing Joint Stock Company, aka
Minh Hai Export Frozen Seafood Processing Joint-Stock Co., aka
Minh-Hai Export Frozen Seafood Processing Joint-Stock Company | 0.00
Minh Hai Joint-Stock Seafoods Processing Company, aka
Seaprodex Minh Hai, aka
Sea Minh Hai, aka
Seaprodex Min Hai, aka
Seaprodex Minh Hai-Factory No. 78, aka
Seaprodex Minh Hai (Minh Hai Joint Stock Seafoods Processing Co.), aka
Seaprodex Minh Hai (Workshop 1), aka
Seaprodex Minh Hai Factory No. 69 | 0.00
Minh Hai Sea Products Import Export Company, aka
Ca Mau Seafood Joint Stock Company, aka
Seaprimexco Vietnam aka
Seaprimexco aka
Minh Hai Seaproducts Co Ltd. | 0.00
Ngoc Sinh Private Enterprise, aka
Ngoc Sinh Private Enterprises, aka
Ngoc Sinh Seafoods, aka
Ngoc Sinh Seafoods Processing and Trading Enterprises, aka
Ngoc Sinh Seafood Processing Company, aka
Ngoc Sinh Seafoods (Private Enterprise), aka
Ngoc Sinh Fisheries, aka
Ngoc Sinh | 0.00
Ngoc Tri Seafood Joint Stock Company | 0.00
Nhat Duc Co., Ltd., aka
Nhat Duc | 0.00
Nha Trang Fisheries Joint Stock Company, aka
Nha Trang Fisco aka
Nhatrang Fisheries Joint Stock Company, aka
Nhatrang Fisco, aka
Nha Trang Fisheries, Joint Stock | 0.00
Phu Cuong Jostoco Seafood Corporation, aka
Phu Cuong Seafood Processing and Import-Export Co., Ltd., aka
Phu Cuong Seafood Processing and Import Export Company Limited, aka
Phu Cuong Jostoco Seafood Corp. | 0.00
Phuong Nam Foodstuff Corp. aka
Phuong Nam, aka
Phuong Nam Co., Ltd., aka
Western Seafood Processing and Exporting Factory, aka
Western Seafood | 0.00
Sao Ta Foods Joint Stock Company, aka
Fimex VN aka
Sao Ta Seafood Factory aka
Saota Seafood Factory | 0.00
Seavina Joint Stock Company, aka
Seavina | 0.00
Soc Trang Seafood Joint Stock Company, aka
Stapimex, aka
Soc Trang Aquatic Products and General Import Export Company, aka
Stapimex Soc Trans Aquatic Products and General Import Export Company, aka
Stapmex | 0.00
Thuan Phuoc Seafoods and Trading Corporation, aka
Thuan Phuoc Corp., aka
Frozen Seafoods Factory No. 32, aka
Seafoods and Foodstuff Factory, aka
Seafoods and Foodstuff Factory Vietnam, aka
My Son Seafoods Factory | 0.00
UTXI Aquatic Products Processing Corporation, aka
UT XI Aquatic Products Processing Corporation, aka
UTXI Aquatic Products Processing Company, aka
UT XI Aquatic Products Processing Company, aka
UTXI Co. Ltd., aka
UTXI, aka
Hoang Phuong Seafood Factory, aka
Hoang Phong Seafood Factory, aka
UTXICO | 0.00
Viet Foods Co., Ltd., aka
Nam Hai Foodstuff and Export Company Ltd. | 0.00
Viet Hai Seafood Co., Ltd., aka
Vietnam Fish One Co., Ltd., aka
Fish One | 0.00
Vietnam-wide Entity ²³ | 25.76

Disclosure and Public Comment

We will disclose the calculations performed within five days of the date of publication of this notice to parties in this proceeding in accordance with 19 CFR 351.224(b).

²³ Agrex Saigon, Bentre Aquaproduct Import & Export Joint Stock Company, Can Tho Agricultural and Animal Products Import Export Company, aka Can Tho Agricultural Products, akaCan Tho Agricultural Products Imex Company, aka, CATACO, Can Tho Import Export Seafood Joint Stock Company, aka CASEAMEX, Cau Tre Enterprise (C.T.E.), CL Fish Co., Ltd. (Cuu Long Fish Company), Cautre Export Goods Processing Joint Stock Company, D & N Foods Processing (Danang Company Ltd.), Duy Dai Corporation, Gn Foods, Hai Thanh Food Company Ltd., Hai Viet Corporation (“HAVICO”), Hai Vuong Co., Ltd., Hoang Hai Company Ltd., Hua Heong Food Industries Vietnam Co. Ltd., Hoa Phat Aquatic Products Processing And Trading Service Co., Ltd., Interfood Shareholding Co., Kien Long Seafoods Co. Ltd., Luan Vo Fishery Co., Ltd., Lucky Shing Co., Ltd., Minh Chau Imp. Exp. Seafood Processing Co., Ltd., Mp Consol Co., Ltd., Ngoc Chau Co., Ltd. and/or Ngoc Chau Seafood Processing Company, Nhat Du Co., Ltd., Quang Ninh Export Aquatic Products Factory aka Quang Ninh Seaproducts Factory, S.R.V. Freight Services Co., Ltd. Sea Product, Sustainable Seafood, Tan Thanh Loi Frozen Food Co., Ltd., Thanh Doan Seaproducts Import & Export Processing Joint-Stock Company (THADIMEXCO), Thanh Hung Frozen Seafood Processing Import Export Co., Ltd., Thanh Tri Seafood Processing Co. Ltd., Tho Quang Seafood Processing and Export Company, Tien Tien Garment Joint Stock Company, Tithi Co., Ltd., Trang Corporation, Vietnam Northern Viking Technologies Co., Ltd., Vinatex DanangViet Cuong Seafood Processing Import Export Joint-Stock Company, Viet Cuong Seafood Processing Import Export, Vinh Loi Import Export Company (“Vimexco”), aka Vinh Loi Import Export Company “VIMEX”), aka VIMEXCO, aka VIMEX, aka Vinh Loi Import/Export Co., aka Vinhloi Import Export Company, aka Vinh Loi Import-Export Company, Vinh Loi Import Export Company (“Vimexco”) and/or Vinh Loi Import Export Company (“VIMEX”).

Assessment Rates

Pursuant to section 751(a)(2)(A) of the Tariff Act of 1930, as amended (“the Act”) and 19 CFR 351.212(b), the Department will determine, and U.S. Customs and Border Protection (“CBP”) shall assess, antidumping duties on all appropriate entries of subject merchandise in accordance with the final results of this review. The Department intends to issue assessment instructions to CBP 15 days after the date of publication of these final results of review. In these final results, the Department applied the assessment rate calculation method adopted in Final Modification for Reviews, i.e., on the basis of monthly average-to-average comparisons using only the transactions associated with that importer with offsets being provided for non-dumped comparisons.²⁴

²⁴ See Antidumping Proceeding: Calculation of the Weighted-Average Dumping Margin and Assessment Rate in Certain Antidumping Proceedings; Final Modification, 77 FR 8101, 8103 (February 14, 2012) (“Final Modification for Reviews”).

Where we do not have entered values for all U.S. sales to a particular importer/customer, we calculate a per-unit assessment rate by aggregating the antidumping duties due for all U.S. sales to that importer (or customer) and dividing this amount by the total quantity sold to that importer (or customer).²⁵ To determine whether the duty assessment rates are de minimis, in accordance with the requirement set forth in 19 CFR 351.106(c)(2), we calculated importer- (or customer-) specific ad valorem ratios based on the estimated entered value. Where either a respondent's weighted average dumping margin is zero or de minimis, or an importer- (or customer-) specific ad valorem rate is zero or above de minimis, we will instruct CBP to liquidate appropriate entries without regard to antidumping duties.²⁶

²⁵ See 19 CFR 351.212(b)(1).

²⁶ See 19 CFR 351.106(c)(2); and Final Modification for Reviews.

Additionally, pursuant to a refinement to its assessment practice in NME cases, if the Department continues to determine that an exporter under review had no shipments of the subject merchandise, any suspended entries that entered under that exporter's case number (i.e., at that exporter's rate) will be liquidated at the NME-wide rate.²⁷

²⁷ For a full discussion of this practice, see Non-Market Economy Antidumping Proceedings: Assessment of Antidumping Duties, 76 FR 65694 (October 24, 2011).

Cash Deposit Requirements

The following cash deposit requirements will be effective upon publication of the final results of this administrative review for shipments of the subject merchandise from Vietnam entered, or withdrawn from warehouse, for consumption on or after the publication date, as provided by sections 751(a)(2)(C) of the Act: (1) For the companies listed above, which have a separate rate, the cash deposit rate will be that established in the final results of this review (except, if the rate is zero or de minimis, then zero cash deposit will be required); (2) for previously investigated or reviewed Vietnam and non-Vietnam exporters not listed above that received a separate rate in a prior segment of this proceeding, the cash deposit rate will continue to be the existing exporter-specific rate; (3) for all Vietnam exporters of subject merchandise that have not been found to be entitled to a separate rate, the cash deposit rate will be that for the Vietnam-wide entity; and (4) for all non-Vietnam exporters of subject merchandise which have not received their own rate, the cash deposit rate will be the rate applicable to the Vietnam exporter that supplied that non-Vietnam exporter. These deposit requirements, when imposed, shall remain in effect until further notice.

Reimbursement of Duties

This notice also serves as a reminder to importers of their responsibility under 19 CFR 351.402(f)(2) to file a certificate regarding the reimbursement of antidumping duties prior to liquidation of the relevant entries during this POR. Failure to comply with this requirement could result in the Department's presumption that reimbursement of antidumping duties occurred and the subsequent assessment of double antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

This determination is issued and published in accordance with sections 751(a)(1) and 777(i)(1) of the Act and 19 CFR 351.221(b)(4).

Dated: September 6, 2013.
Paul Piquado,
Assistant Secretary for Import Administration.

Appendix

General Issues

Comment 1: Surrogate Country

A. Economic Comparability

B. Data Considerations

Comment 2: Financial Statements to Use When Selecting Indonesia as Surrogate Country

Comment 3: Market Economy Purchases

Comment 4: Whether the Surrogate Value For Export-Related Non-Market Economy Expenses Incurred is Double-Counted

Comment 5: Movement Expenses

Comment 6: Cold Storage Surrogate Value

Comment 7: Sauce Surrogate Value

Comment 8: Targeted Dumping

Comment 9: Calculation of the Separate Rate and Whether to Revise the Separate Rate Liquidation Instructions

Comment 10: Whether to Revise U.S. Customs and Border Patrol Liquidation and Cash Deposit Instructions

Comment 11: Whether to Include an Additional Company in Phu Cuong Jostoco' Separate Rate

Comment 12: Whether to Revoke From the Order Minh Phu Group and Nha Trang Seafoods

Company-Specific Issues

Minh Phu Group:

Comment 13: Whether Minh Phu Group's Reported Sample Sales Are Properly Excluded

Comment 14: Whether Certain Factors of Production Reported by Minh Phu Group are Properly Classified as Direct Materials

Comment 15: Whether the Department Applied an Incorrect Unit of Measure for Sauce

Comment 16: Whether the Department Incorrectly Applied Minh Phu Group's Reported Entered Value

Comment 17: Whether Minh Phu Group's Minor Corrections from Verification Are Properly Applied

Comment 18: Whether MPG's Indirect Selling Expenses Are Properly Calculated

Nha Trang Seafoods:

Comment 19: Whether to Adjust Electricity and Water Consumption

Comment 20: Whether Nha Trang Seafoods Included Transfer Costs between Factories

Quoc Viet:

Comment 21: Treatment of Sauce

Comment 22: Marine Insurance

[FR Doc. 2013-22228 Filed 9-11-13; 8:45 am]

BILLING CODE 3510-DS-P